DEPARTMENT OF ENERGY

Federal Energy Regulatory Commission

Combined Notice Of Filings #1

March 8, 2010.

Take notice that the Commission received the following electric corporate filings:

Docket Numbers: EC10-49-000.

Applicants: GWF Energy LLC.

Description: GWF Energy LLC submits an application for disposition of jurisdictional facilities.

Filed Date: 03/04/2010.

Accession Number: 20100305-0213.

Comment Date: 5 p.m. Eastern Time on Thursday, March 25, 2010.

Take notice that the Commission received the following electric rate filings:

Docket Numbers: ER99-2948-018; ER00-2918-017; ER01-1654-020; ER01-556-016; ER02-2567-017; ER04-485-015; ER05-261-010; ER05-728-010; ER07-244-009; ER07-245-009; ER07-247-009; ER10-346-003.

Applicants: Baltimore Gas and Electric Company; Constellation Pwr Source Generation LLC; Nine Mile Point Nuclear Station, LLC; Handsome Lake Energy, LLC; Constellation NewEnergy, Inc.; R.E. Ginna Nuclear Power Plant, LLC; Constellation Energy Commodities Group; Constellation Energy Commodities Group Maine; Raven Three, LLC; Raven Two, LLC; Raven One, LLC; Calvert Cliffs Nuclear Power Plant LLC.

Description: Calvert Cliffs Nuclear Power Plant submits Substitute First Revised Sheet 1 et al. to its Second Revised FERC Electric Tariff No. 1 et al.

Filed Date: 03/05/2010.

Accession Number: 20100308-0202.

Comment Date: 5 p.m. Eastern Time on Friday, March 26, 2010.

Docket Numbers: ER01-2217-008; ER02-2263-010; ER06-736-002; ER08-337-005; ER08-931-004; ER09-712-002.

Applicants: High Lonesome Mesa, LLC, Midway Sunset Cogeneration Company, Southern California Edison Company, Sunrise Power Company, LLC; Walnut Creek Energy, LLC, Watson Cogeneration Company.

Description: Southwest EIX MBR Affiliates submits supplements and corrects its 12/22/09 triennial filing.

Filed Date: 03/08/2010.

Accession Number: 20100308-0092.

Comment Date: 5 p.m. Eastern Time on Thursday, March 18, 2010.

Docket Numbers: ER06-560-007.

Applicants: Credit Suisse Energy LLC.

Description: Notice of Non-Material Change in Status of Credit Suisse Energy LLC.

Filed Date: 03/05/2010.

Accession Number: 20100305-5161.

Comment Date: 5 p.m. Eastern Time on Friday, March 26, 2010.

Docket Numbers: ER06-1355-006; ER09-1400-002; ER09-1549-002; ER09-172-006; ER09-173-006; ER09-174-004.

Applicants: Canandaigua Power Partners I, LLC; Evergreen Wind Power, LLC, Canandaigua Power Partners, LLC, Evergreen Wind Power V, LLC, Canandaigua Power Partners II, LLC, Milford Wind Corridor Phase I, LLC, First Wind Energy Marketing, LLC.

Description: Canandaigua Power Partners, LLC, et al. Updated Information.

Filed Date: 03/05/2010.

Accession Number: 20100305-5102.

Comment Date: 5 p.m. Eastern Time on Friday, March 26, 2010.

Docket Numbers: ER07-1358-015; ER00-2885-029; ER01-2765-028; ER02-2102-028; ER05-1232-025; ER09-1141-008.

Applicants: J.P. Morgan Ventures Energy Corporation, BE Louisiana LLC, Cedar Brakes I, LLC, Utility Contract Funding, LLC, Cedar Brakes II, LLC, J.P. Morgan Commodities Canada Corporation.

Description: BE Louisiana LLC, et al. Notice of Change In Status.

Filed Date: 03/04/2010.

Accession Number: 20100304-5080.

Comment Date: 5 p.m. Eastern Time on Thursday, March 25, 2010.

Docket Numbers: ER10-502-001.

Applicants: Westar Energy, Inc.

Description: Westar Energy, Inc submits an errata to the 12/24/09 filing of the Participation Power Agreement with Kansas Power Pool.

Filed Date: 03/05/2010.

Accession Number: 20100305-0215.

Comment Date: 5 p.m. Eastern Time on Friday, March 26, 2010.

Docket Numbers: ER10-576-001.

Applicants: Midwest Independent Transmission System Operator, Inc.

Description: Midwest Independent Transmission System Operator, Inc submits amendment to its 1/11/2010 filing to amend Schedule 10, et al.

Filed Date: 03/05/2010.

Accession Number: 20100308-0205.

Comment Date: 5 p.m. Eastern Time on Friday, March 26, 2010.

Docket Numbers: ER10-840-000.

Applicants: Electric Energy, Inc.

Description: Electric Energy, Inc submits Interconnection Agreement with Tennessee Valley Authority et al.

Filed Date: 03/05/2010.

Accession Number: 20100305-0225.

Comment Date: 5 p.m. Eastern Time on Friday, March 26, 2010.

Docket Numbers: ER10-841-000.

Applicants: New York Independent System Operator, Inc.

Description: New York Independent System Operator, Inc submits proposed revisions to its Open Access Transmission Tariff.

Filed Date: 03/05/2010.

Accession Number: 20100305-0226.

Comment Date: 5 p.m. Eastern Time on Friday, March 26, 2010.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-5650 Filed 3-15-10; 8:45 am]

BILLING CODE 6717-01-P